DEPARTMENT OF COMMERCE

Patent and Trademark Office

[Docket No.: PTO-P-2010-0083]

Expansion and Extension of the Green Technology Pilot Program

AGENCY: United States Patent and Trademark Office, Commerce.

ACTION: Notice.

SUMMARY: On December 8, 2009, the United States Patent and Trademark Office (USPTO) implemented the Green Technology Pilot Program, which permits patent applications pertaining to environmental quality, energy conservation, development of renewable energy resources, and greenhouse gas emission reduction to be advanced out of turn for examination and reviewed earlier (accorded special status). The program is designed to promote the development of green technologies. Initially, participation was limited to applications filed before December 8, 2009. The USPTO is hereby expanding the eligibility for the pilot program to include applications filed on or after December 8, 2009. The program is also being extended until December 31, 2011. These changes will permit more applications to qualify for the program, thereby allowing more inventions related to green technologies to be advanced out of turn for examination and reviewed earlier.

DATES: Effective Date: November 10, 2010.

Duration: The Green Technology Pilot Program will run until December 31, 2011, except that the USPTO will accept only the first 3,000 grantable petitions to make special under the Green Technology Pilot Program in unexamined applications irrespective of the filing date of the application.

FOR FURTHER INFORMATION CONTACT: Pinchus M. Laufer and Joni Y. Chang, Senior Legal Advisors, Office of Patent Legal Administration, Office of the Associate Commissioner for Patent Examination Policy, by telephone at 571-272-7726 or 571-272-7720; or by mail addressed to: Mail Stop Comments Patents, Commissioner for Patents, P.O. Box 1450, Alexandria, VA 22313-1450.

SUPPLEMENTARY INFORMATION: The USPTO published a notice for the implementation of the Green Technology Pilot Program on December 8, 2009. See Pilot Program for Green Technologies Including Greenhouse Gas Reduction, 74 FR 64666 (December 8, 2009), 1349 Off. Gaz. Pat. Office 362 (December 29, 2009) (Green Technology Notice). The pilot program is designed to promote the development of green technologies. The Green Technology Notice indicated that an applicant may have an application advanced out of turn and reviewed earlier (accorded special status) for examination, if the application pertained to green technologies including greenhouse gas reduction (applications pertaining to environmental quality, energy conservation, development of renewable energy resources or greenhouse gas emission reduction) and met other requirements specified in the Green Technology Notice. The USPTO published a notice eliminating the classification requirement of the Green Technology Pilot Program on May 21, 2010. See Elimination of the Classification Requirement in the Green Technology Pilot Program, 75 FR 28554 (May 10, 2010), 1355 Off. Gaz. Pat. Office 188 (June 15, 2010).

The Green Technology Notice required inter alia that an application be filed before December 8, 2009, the date of the original notice, to participate in the program. The Green Technology Notice also established that the program would run for twelve months from December 8, 2009. The USPTO is hereby expanding the eligibility for the pilot program to include unexamined non-reissue non-provisional utility applications filed on or after December 8, 2009. The USPTO is also extending the pilot program through December 31, 2011. Specifically, the Green Technology Pilot Program will run until 3,000 petitions have been granted (as set forth in the Green Technology Notice) or until December 31, 2011, whichever occurs earlier. Accordingly, if fewer than 3,000 grantable petitions are received, the pilot program will end on December 31, 2011. These changes will permit more applications to qualify for the pilot program, thereby allowing more inventions related to green technologies to be advanced out of turn for examination and reviewed earlier. Information concerning the number of petitions that have been filed and granted under the Green Technology Pilot Program is available on the USPTO's Internet Web site at http://www.uspto.gov/patents/init_events/green_tech.jsp. The USPTO may again extend the pilot program (with or without modifications) depending on the feedback from the participants and the effectiveness of the pilot program.

Applicants whose petitions were dismissed or denied solely on the basis that their applications were not filed before December 8, 2009, may file a renewed petition. If the renewed petition is filed within one month of the publication date of this notice, it will be given priority as of the date applicant filed the initial petition.

Dated: October 15, 2010.
David J. Kappos,
Under Secretary of Commerce for Intellectual Property and Director of the United States Patent and Trademark Office.

[FR Doc. 2010-28394 Filed 11-9-10; 8:45 am]

BILLING CODE 3510-16-P